DEPARTMENT OF ENERGY

Federal Energy Regulatory Commission

[Project No. 12636-002]

Mohawk Hydro Corporation; Notice of Application Tendered for Filing With the Commission and Soliciting Additional Study Requests

Take notice that the following hydroelectric application has been filed with the Commission and is available for public inspection.

a. Type of Application: Original Major License

b. Project No.: 12636-002

c. Date filed: October 24, 2014

d. Applicant: Mohawk Hydro Corporation

e. Name of Project: Middle Mohawk Hydroelectric Project

f. Location: The project would be located on the Mohawk River, in Schenectady and Montgomery Counties, New York.

g. Filed Pursuant to: Federal Power Act 16 U.S.C. 791(a)-825(r).

h. Applicant Contact: Wendy Jo Carey, Mohawk Hydro Corporation, 5 Washington Square, Albany, NY 12205; or at (518) 456-7712.

i. FERC Contact: Monir Chowdhury, (202) 502-6736 or monir.chowdhury@ferc.gov

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 23, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12636-002.

m. The application is not ready for environmental analysis at this time.

n. The proposed project would be located at eight existing lock and dam facilities (Lock Numbers: E8 through E15) that are owned by the New York State Canal Corporation. The proposed run-of-river project would consist of the following eight developments:

Lock E8 Scotia Development would consist of: (1) An existing 530-foot-long, 14-foot-high bridge type dam; (2) an existing 336-acre impoundment at an elevation of 223.44 feet North Atlantic Vertical Datum of 1988 (NAVD 88); (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts (kW) each; (4) a new short transmission line connecting a new transportable 40-foot-long by 8-foot-wide by 8-foot-high grid interface unit to an existing 34.5-kilovolt (kV) or lower voltage grid distribution or sub-transmission line; and (5) appurtenant facilities. The development would have an annual generation of 15,473 megawatt-hours (MWh).

Lock E9 Rotterdam Junction Development would consist of: (1) An existing 530-foot-long, 15-foot-high bridge type dam; (2) an existing 428-acre impoundment at an elevation of 238.78 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kW each; (4) a new short transmission line connecting a new transportable 40-foot-long by 8-foot-wide by 8-foot-high grid interface unit to an existing 34.5-kV or lower voltage grid distribution or sub-transmission line; and (5) appurtenant facilities. The development would have an annual generation of 16,440 MWh.

Lock E10 Cranesville Development would consist of: (1) An existing 500-foot-long, 15-foot-high bridge type dam; (2) an existing 414-acre impoundment at an elevation of 253.37 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts each; (4) a new short transmission line connecting a new transportable 40-foot-long by 8-foot-wide by 8-foot-high grid interface unit to an existing 34.5-kV or lower voltage grid distribution or sub-transmission line; and (5) appurtenant facilities. The development would have an annual generation of 16,296 MWh.

Lock E11 Amsterdam Development would consist of: (1) An existing 588-foot-long, 12-foot-high bridge type dam; (2) an existing 414-acre impoundment at an elevation of 265.44 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts each; (4) a new short transmission line connecting a new transportable 40-foot-long by 8-foot-wide by 8-foot-high grid interface unit to an existing 34.5-kV or lower voltage grid distribution or sub-transmission line; and (5) appurtenant facilities. The development would have an annual generation of 12,461 MWh.

Lock E12 Tribes Hill Development would consist of: (1) An existing 460-foot-long, 11-foot-high bridge type dam; (2) an existing 737-acre impoundment at an elevation of 276.52 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts each; (4) a new short transmission line connecting a new transportable 40-foot-long by 8-foot-wide by 8-foot-high grid interface unit to an existing 34.5-kV or lower voltage grid distribution or sub-transmission line; and (5) appurtenant facilities. The development would have an annual generation of 11,266 MWh.

Lock E13 Randall Development would consist of: (1) An existing 370-foot-long, 8-foot-high bridge type dam; (2) an existing 464-acre impoundment at an elevation of 284.52 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts each; (4) a new short transmission line connecting a new transportable 40-foot-long by 8-foot-wide by 8-foot-high grid interface unit to an existing 34.5-kV or lower voltage grid distribution or sub-transmission line; and (5) appurtenant facilities. The development would have an annual generation of 7,734 MWh.

Lock E14 Canajoharie Development would consist of: (1) An existing 430-foot-long, 8-foot-high bridge type dam; (2) an existing 219-acre impoundment at an elevation of 292.38 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts each; (4) a new short transmission line connecting a new transportable 40-foot-long by 8-foot-wide by 8-foot-high grid interface unit to an existing 34.5-kV or lower voltage grid distribution or sub-transmission line; and (5) appurtenant facilities. The development would have an annual generation of 7,133 MWh.

Lock E15 Fort Plain Development would consist of: (1) An existing 430-foot-long, 8-foot-high bridge type dam; (2) an existing 578-acre impoundment at an elevation of 300.31 feet NAVD 88; (3) two new identical modular steel transportable barges, with each barge resting on a foundation consisting of four steel reinforced concrete pylons and consisting of: (a) A steel intake structure approximately 130 feet long by 40 feet wide by 15 feet high and (b) an approximately 130-foot-long by 40-foot-wide by 10-foot-high steel powerhouse containing nine turbine-generator units having a capacity of 220 kilowatts each; (4) a new short transmission line connecting a new transportable 40-foot-long by 8-foot-wide by 8-foot-high grid interface unit to an existing 34.5-kV or lower voltage grid distribution or sub-transmission line; and (5) appurtenant facilities. The development would have an annual generation of 6,879 MWh.

Each development would be operated during the navigation season (May through November) only. The proposed transportable barges would be deployed at the beginning of each navigation season and removed at the close of the navigation season.

o. A copy of the application is available for electronic review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Milestone | Date
Issue Acceptance or Deficiency Letter | January 2015.
Request Additional Information | January 2015.
Issue Notice of Acceptance | April 2015.
Issue Scoping Document 1 for Comments | May 2015.
Hold Scoping Meeting | June 2015.
Comments Due on Scoping Document 1 | July 2015.
Issue Scoping Document 2 | August 2015.
Issue Notice of Ready for Environmental Analysis | August 2015.
Commission Issues EA | February 2016.

Dated: November 7, 2014.
Kimberly D. Bose,
Secretary.

[FR Doc. 2014-27054 Filed 11-14-14; 8:45 am]

BILLING CODE 6717-01-P